DEPARTMENT OF HEALTH AND HUMAN SERVICES

Centers for Disease Control and Prevention

[60Day-07-05CO]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-639-5960 and send comments to Joan F. Karr, CDC Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Notice of Republication of 60 day FRN

Title of Project

Evaluation of the Centers for Disease Control and Prevention's Consumer Response Service Center—New—National Center for Healthcare Marketing (NCHM), Centers for Disease Control and Prevention (CDC).

Description of Republication

Due to expiration of the 60Day-05-05CO on July 21, 2005 OMB Desk Officer (John Kraemer) has requested that the 60Day-07-05CO be republished using the date of 02/15/2007, which is currently the 30Day-07-05CO publication date. Public comments will be considered until COB of April 15, 2007. We are working to put measures in place to ensure this does not happen again. The 30 day FRN will be republished at a later date.

Background and Brief Description

CDC is launching an integrated “one face to the public” approach across all communication channels to handle inquiries concerning a broad spectrum of public health topics. The overall objective is to ensure consistent, timely, reliable health information for dissemination to a variety of consumers (public, health professionals, researchers, etc.) and to address variations in inquiry volumes related to public health emergencies, news events, and dynamic, shifting public health priorities. The CDC has integrated over 40 hotlines into one Consumer Response Services Center—CDC-INFO. CDC-INFO has an exceptionally wide scope because content currently divided between over 40 hotlines handling nearly 2,000,000 telephone contacts annually will be consolidated under CDC-INFO. All CDC hotlines were consolidated in one center beginning in February 2005, with all CDC program areas transitioning into CDC-INFO through a phased approach during the next three years. CDC-INFO itself will be operational for at least the next seven years.

The primary objectives of the national evaluation are to (1) Proactively evaluate customer interactions and service effectiveness by employing assessment measures and data collection mechanisms to support performance management, gathering insights and understandings for improving service levels, and implementing effective measures to meet customer satisfaction goals; (2) develop an ongoing understanding of customer requirements and satisfaction trends to achieve best of practice quality standards and to provide qualitative assessments, quantitative data, and cost factors to drive improvement and reinforce operational objectives; (3) measure CDC-INFO contractor service performance to assist in determining whether performance incentives have been achieved; and (4) to collect data in order to address public concern and response to emergencies, outbreaks, and media events.

Sample size, respondent burden, and intrusiveness have been minimized to be consistent with national evaluation objectives. Procedures will be employed to safeguard the privacy and confidentiality of participants. Pilot tests assisted in controlling burden and ensuring the user-relevance of questions. The following table shows the estimated annualized burden for data collection. There are no respondent costs other than the amount of time required to respond to the survey.

Estimated Annualized Burden Hours:

Data collection instrument | Number of respondents | Responses /respondent | Average burden per response (in hrs) | Average annual burden hours
Satisfaction survey (callers) | 25,000 | 1 | 3/60 | 1,250
Satisfaction survey (e-mail inquiries) | 330 | 1 | 3/60 | 17
Follow up survey | 3,125 | 1 | 7/60 | 365
Key informant survey | 100 | 1 | 7/60 | 12
Postcard survey for bulk mailing | 950 | 1 | 1/60 | 16
Postcard survey for individual publications | 2,100 | 1 | 1/60 | 35
Web survey for e-mail publication orders | 1,000 | 1 | 1/60 | 17
Web survey for internet publications | 950 | 1 | 1/60 | 16
Special event/Outreach survey—General Public | 25,600 | 1 | 5/60 | 2,133
Special event/Outreach survey—Professionals | 10,400 | 1 | 5/60 | 867
Emergency response survey—Level 1 emergency—General Public | 31,151 | 1 | 5/60 | 2596
Emergency response survey—Level 1 emergency—Professionals | 7,459 | 1 | 5/60 | 622
Emergency response survey—Level 2 emergency—General Public | 57,579 | 1 | 5/60 | 4798
Emergency response survey—Level 2 emergency—Professionals | 51,821 | 1 | 5/60 | 4318
Emergency response survey—Level 3 emergency—General Public | 351,863 | 1 | 5/60 | 29,322
Emergency response survey—Level 3 emergency—Professional | 316,678 | 1 | 5/60 | 26,390
Emergency response survey—Level 4 emergency—General Public | 645,630 | 1 | 5/60 | 53,803
Emergency response survey—Level 4 emergency—Professional | 596,504 | 1 | 5/60 | 49,709
Total Burden Hours |  |  |  | 176,286

Dated: March 15, 2007.
Deborah Holtzman,
Acting Reports Clearance Officer, Centers for Disease Control and Prevention.

[FR Doc. E7-5218 Filed 3-21-07; 8:45 am]

BILLING CODE 4163-18-P